DEPARTMENT OF HEALTH AND HUMAN SERVICES

Substance Abuse and Mental Health Services Administration

Fiscal Year (FY) 2008 Funding Opportunity

AGENCY: Substance Abuse and Mental Health Services Administration, HHS.

ACTION: Notice of intent to award a Single Source Grant to the Education Development Resource Center, Inc., Newton, Massachusetts.

SUMMARY: This notice is to inform the public that the Substance Abuse and Mental Health Services Administration (SAMHSA) intends to award approximately $996,000 (total costs) per year for up to two years to the Education Development Resource Center, Inc. Newton, Massachusetts. This is not a formal request for applications. Assistance will be provided only to the Education Development Resource Center, Inc. based on the receipt of a satisfactory application that is approved by an independent review group.

Funding Opportunity Title: SM-08-014

Catalog of Federal Domestic Assistance (CFDA) Number: 93.243

Authority: Section 520C of the Public Health Service Act, as amended.

Justification: Through the Suicide Prevention Resource Center (SPRC), the Education Development Center supports the technical assistance and information needs of SAMHSA State/Tribal Youth Suicide Prevention and Campus Suicide Prevention grantees and State, Territorial, and Tribal suicide prevention coordinators and coalition members with customized assistance and technical resources. They accomplish this through planning conferences and training events, creating publications and Web content on suicide and suicide prevention for professionals, advocates, and consumers; identifying and disseminating best practices; facilitating informational exchanges and peer-to-peer mentoring using listservs and other technologies; and promoting suicide prevention as a component of mental health transformation.

Funding for the SPRC and for this program supplement are components of the Garrett Lee Smith Memorial Act, most recently included in the 2008 Omnibus Appropriations Act. Congress authorized funding for only one Suicide Prevention Resource Center; therefore the program supplement must be awarded to the grantee that manages the SPRC, specifically to Education Development Center, Inc., Newton, Massachusetts. There are no other sources with the available resources and expertise to successfully complete the tasks of this proposal. Further, it would be both inefficient and wasteful to fund a second technical assistance provider for the same group of grantees.

FOR FURTHER INFORMATION CONTACT: Shelly Hara, Substance Abuse and Mental Health Services Administration, 1 Choke Cherry Road, Room 8-1081, Rockville, MD 20857; telephone: (240) 276-2321; E-mail: shelly.hara@samhsa.hhs.gov.

Toian Vaughn,
SAMHSA Committee Management Officer.

[FR Doc. E8-6997 Filed 4-4-08; 8:45 am]

BILLING CODE 4162-20-P